DEPARTMENT OF TRANSPORTATION

Federal Motor Carrier Safety Administration

[Docket No. FMCSA 2015-0268]

Agency Information Collection Activities; Revision of a Currently-Approved Information Collection: Motor Carrier Identification Report

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invites public comment. The FMCSA requests approval to revise an ICR titled, “Motor Carrier Identification Report,” which is used to identify FMCSA regulated entities, help prioritize the agency's activities, aid in assessing the safety outcomes of those activities, and for statistical purposes. This ICR is being revised due to a Final Rule titled, “Unified Registration System (80 FR 63695) dated October 21, 2015, which changed the effective and compliance dates for the on-line Unified Registration System (URS) from October 23, 2015, in the URS Final Rule, (78 FR 52608) dated August 23, 2013, to September 30, 2016.

DATES: Please send your comments to this notice by January 13, 2016. OMB must receive your comments by this date to act quickly on the ICR.

ADDRESSES: All comments should reference Federal Docket Management System (FDMS) Docket Number FMCSA-2015-0268. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Jeff Secrist, Office of Registration and Safety Information, Department of Transportation, Federal Motor Carrier Safety Administration, West Building 6th Floor, 1200 New Jersey Avenue SE., Washington, DC 20590-0001. Telephone: 202-385-2367; email jeff.secrist@dot.gov. Office hours are from 9:00 a.m. to 5:00 p.m., Monday through Friday, except Federal Holidays.

SUPPLEMENTARY INFORMATION: Title: Motor Carrier Identification Report.

OMB Control Number: 2126-0013.

Type of Request: Revision of a currently-approved information collection.

Respondents: Motor carriers and commercial motor vehicle drivers.

Estimated Number of Respondents: 489,925.

Estimated Time per Response: To complete Form MCS-150—20 minutes and 7.5 minutes for the biennial update. To complete Form MCS-150B (HM Permit Application), interstate carriers that have already completed the Form MCS-150 will need 6 minutes and intrastate carriers that have never completed a Form MCS-150 will need about 16 minutes and 5 minutes for the biennial update. Form MCS-150C—Intermodal Equipment Providers will need 20 minutes the first time they file this report and 7.5 minutes for the biennial update.

Expiration Date: December 31, 2015.

Frequency of Response: On occasion and biennially.

Estimated Total Annual Burden: 31,271 hours [31,123 hours for Form MCS-150 + 146 hours for Form MCA-150B + 2 hours for Form MCS-150C = 31,271].

Background: Title 49, United States Code Section 504(b)(2) provides the Secretary of Transportation (Secretary) with authority to require carriers, lessors, associations, or classes of these entities to file annual, periodic, and special reports containing answers to questions asked by the Secretary. The Secretary may also prescribe the form of records required to be prepared or compiled and the time period during which records must be preserved (See § 504(b)(1) and (d)). The FMCSA will use this data to administer its safety programs by establishing a database of entities that are subject to its regulations. This database necessitates that these entities notify the FMCSA of their existence. For example, under 49 CFR 390.19(a), FMCSA requires all motor carriers beginning operations to file a Form MCS-150 entitled, Motor Carrier Identification Report.” This report is filed by all motor carriers conducting operations in interstate or international commerce before beginning operations. It asks the respondent to provide the name of the business entity that owns and controls the motor carrier operation, address and telephone of principal place of business, assigned identification number(s), type of operation, types of cargo usually transported, number of vehicles owned, term leased and trip leased, driver information, and certification statement signed by an individual authorized to sign documents on behalf of the business entity.

The Department of Transportation and Related Agencies Appropriations Act for fiscal year 2002, Public Law 107-87, 115 Stat. 833, dated December 18, 2001, directed the agency to issue an interim final rule (IFR) to ensure that new entrant motor carriers are knowledgeable about the Federal Motor Carrier Safety Regulations (FMCSRs) and standards. On May 13, 2002, the agency published an IFR titled, “New Entrant Safety Assurance Process” (67 FR 31978).

On August, 23, 2013, the agency published a Final Rule titled, “Unified Registration System,” (URS) which requires interstate motor carriers, freight forwarders, brokers, intermodal equipment providers, hazardous materials safety permit applicants, and cargo tank facilities to file for registration via a new online Form MCSA-1. The Form MCSA-1 will replace the existing Forms MCS-150B and MCS-150C in this ICR. However, the Form MCS-150 will be retained for the small number of Mexico-domiciled carriers that seek authority to operate beyond the United States municipalities on the United States-Mexico border and their commercial zones because they are not included within the scope of the URS Final Rule.

On October 21, 2015, the agency issued a Final Rule titled, “Unified Registration System,” (80 FR 63695) which changed the effective and compliance dates of the 2013 URS Final Rule in order to allow FMCSA additional time to complete the information technology (IT) systems work required to fully implement that rule. This change will require the continued use of the Forms MCS-150, MCS-150B and MCS-150C in this ICR until September 30, 2016, because these forms are still needed to support registration processes for entities subject to FMCSA's regulations. After this date, all forms except the MCS-150 in this ICR will be folded into the Form MCSA-1 in the OMB Control Number 2126-0051 titled, “FMCSA Registration/Updates,” ICR. The Form MCS-150 will be retained for the small number of Mexico-domiciled carriers that seek authority to operate beyond the United States municipalities on the U.S.-Mexico border because they are not included in the scope of the URS. This revised ICR captures the burden due to the use of the Form MCS-150B and Form MCS-150C until September 30, 2016, and the use of the Form MCS-150 by the Mexico-domiciled carriers after the implementation of the URS Final Rule.

On August 21, 2015, FMCSA published a Federal Register notice allowing for a 60-day comment period on this ICR. The agency received one comment in response to this notice. The anonymous commenter only stated “Good.” The FMCSA in response agrees with the anonymous commenter.

Public Comments Invited: FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: December 4, 2015.
G. Kelly Regal,
Associate Administrator, Office of Research and Information Technology.

[FR Doc. 2015-31341 Filed 12-11-15; 8:45 am]

BILLING CODE 4910-EX-P